SMALL BUSINESS ADMINISTRATION

[Disaster Declaration #12055 and #12056]

Nebraska Disaster Number NE-00033

AGENCY: U.S. Small Business Administration.

ACTION: Amendment 1.

SUMMARY: This is an amendment of the Presidential declaration of a major disaster for Public Assistance Only for the State of Nebraska (FEMA-1878-DR), dated 02/25/2010 .

Incident: Severe Winter Storms and Snowstorm.

Incident Period: 12/22/2009 through 01/08/2010.

Effective Date: 03/26/2010.

Physical Loan Application Deadline Date: 04/26/2010.

Economic Injury (EIDL) Loan Application Deadline Date: 11/25/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Nebraska, dated 02/25/2010, is hereby amended to include the following areas as adversely affected by the disaster.

Primary Counties: Boone, Boyd, Cedar, Colfax, Cuming, Dixon, Fillmore, Frontier, Furnas, Gosper, Greeley, Harlan, Holt, Howard, Knox, Loup, Merrick, Nuckolls, Pierce, Platte, Polk, Richardson, Sarpy, Wayne.

All other information in the original declaration remains unchanged.

(Catalog of Federal Domestic Assistance Numbers 59002 and 59008)

James E. Rivera,
Associate Administrator for Disaster Assistance.

[FR Doc. 2010-7621 Filed 4-2-10; 8:45 am]

BILLING CODE 8025-01-P